DEPARTMENT OF HEALTH AND HUMAN SERVICES

Office of the Secretary

Announcement of the Establishment of the Secretary's Council on Public Health Preparedness

AGENCY: Office of Public Health and Science.

ACTION: Notice of Establishment of the Secretary's Council on Public Health Preparedness.

SUMMARY: The Office of the Secretary announces establishment of the Secretary's Council on Public Health Preparedness by the Secretary of Health and Human Services on October 22, 2001. The Secretary established this committee to respond to public health emergencies, which exist as a consequence of the terrorist attacks on September 11, 2001.

FOR FURTHER INFORMATION CONTACT: Harold P. Thompson, (202) 690-5605.

SUPPLEMENTARY INFORMATION:

Authority and Purpose

Pursuant to section 319 of the Public Health Service Act (42 U.S.C. 247D), the Secretary of Health and Human Services has determined that a public health emergency exists as a consequence of the terrorist attacks on September 11, 2001. The Secretary's Council on Public Health Preparedness, established pursuant to section 222 of the Public Health Service Act (42 U.S.C. §217a), will provide advice to the Secretary on appropriate actions to take to respond to this public health emergency and similar emergencies.

Function

The Council shall advise the Secretary regarding steps that the U.S. Department of Health and Human Services can take to (1) Improve the public health and health care infrastructure to better enable Federal, State, and local governments to respond to a public health emergency and, specifically, a bio-terrorism event; (2) ensure that there are comprehensive contingency plans in place at the Federal, State, and local levels to respond to a public health emergency and, specifically, a bio-terrorism event; and (3) improve public preparedness at the Federal, State, and local levels.

Structure

The Council shall consist of not more than 26 members appointed by the Secretary. Members shall be selected from State and local public health agencies, other components of the public health community, academia, and other appropriate stakeholders. Members shall be invited to serve for overlapping four year terms. Terms for more than two years are contingent upon the renewal of the Committee by appropriate action prior to its termination. Unless renewed by appropriate action, the Council will terminate on September 30, 2003.

Compensation

Members shall be paid at a rate of $188.00 for each day they are actively engaged in the performance of duties as members of the Council. Members also shall receive per diem and reimbursement of travel expenses incurred, in accordance with the Federal Travel Regulations, when travel becomes necessary to carry out duties in relation to Council membership.

Dated: October 26, 2001.
Arthur J. Lawrence,
Acting Principal Deputy Assistant Secretary for Health.

[FR Doc. 01-27414 Filed 10-30-01; 4:08 pm]

BILLING CODE 4150-28-M